DEPARTMENT OF THE INTERIOR

Geological Survey

[GX24LR000F60100; OMB Control Number 1028-0053/Renewal]

Agency Information Collection Activities; Submission to the Office of Management and Budget for Review and Approval; Nonferrous Metals Surveys

AGENCY: U.S. Geological Survey, Department of the Interior.

ACTION: Notice of information collection; request for comment.

SUMMARY: In accordance with the Paperwork Reduction Act (PRA) of 1995, and Federal regulations, the U.S. Geological Survey (USGS) is proposing to renew an Information Collection with revisions to add a currently OMB-exempt `Battery Recycling' canvass (USGS Form 9-4147-A) and convert to OMB-exempt status the `Alumina' (USGS Form 9-4055-A) and `Pig Tin' (USGS Form 9-4090-M) canvasses.

DATES: Interested persons are invited to submit comments on or before January 13, 2025.

ADDRESSES: Send your comments on this Information Collection Request (ICR) by mail to U.S. Geological Survey, Information Collections Officer, 12201 Sunrise Valley Drive MS 159, Reston, VA 20192; or by email to gs-info_collections@usgs.gov. Please reference OMB Control Number 1028-0053 Nonferrous Metals Surveys in the subject line of your comments.

FOR FURTHER INFORMATION CONTACT: To request additional information about this ICR, contact Elizabeth S. Sangine by email at escottsangine@usgs.gov, or by telephone at 703-648-7720. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA, as part of our continuing effort to reduce paperwork and respondent burdens, we provide the general public and other Federal agencies with an opportunity to comment on new, proposed, revised, and continuing collections of information. This helps us assess the impact of our information collection requirements and minimize the public's reporting burden. It also helps the public understand our information collection requirements and provides the requested data in the desired format.

We are soliciting comments on the proposed ICR that is described below. We are especially interested in public comments addressing the following issues:

(1) is the collection necessary to the proper functions of the USGS minerals information mission; (2) will this information be processed and used in a timely manner; (3) is the estimate of burden accurate; (4) how the USGS might enhance the quality, utility, and clarity of the information to be collected; and (5) how the USGS might minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: Respondents to these forms supply the USGS with domestic production and consumption data for 22 ores, concentrates, and metals, some of which are considered strategic and critical, to assist in determining National Defense Stockpile goals. These data and derived information will be published as chapters in Minerals Yearbooks, monthly Mineral Industry Surveys, annual Mineral Commodity Summaries, and special publications for use by government agencies, Congressional offices, educational institutions, research organizations, financial institutions, consulting firms, industry, academia, and the general public. We will convert to OMB-exempt status the `Alumina' (USGS Form 9-4055-A) and `Pig Tin' (USGS Form 9-4090-M) canvasses because of a permanent reduction in the number of potential respondents.

Title of Collection: Nonferrous Metals Surveys.

OMB Control Number: 1028-0053.

Form Number: Various (26 USGS forms).

Type of Review: Renewal with revisions of a currently approved collection.

Respondents/Affected Public: Businesses or Other For-Profit Institutions: U.S. nonfuel minerals producers and consumers of nonferrous metals and related materials.

Total Estimated Number of Annual Respondents: 1,508.

Total Estimated Number of Annual Responses: 4,885.

Estimated Completion Time per Response: For each form, we will include an average burden time ranging from 20 minutes to 90 minutes.

Total Estimated Number of Annual Burden Hours: 3,616.

Respondent's Obligation: Voluntary.

Frequency of Collection: Monthly, Quarterly, or Annually.

Total Estimated Annual Non-hour Burden Cost: There are no “non-hour cost” burdens associated with this ICR.

An agency may not conduct or sponsor, nor is a person required to respond to, a collection of information unless it displays a currently valid OMB control number.

The authorities for this action are the PRA, the National Materials and Minerals Policy, Research and Development Act of 1980 (30 U.S.C. 1601 et seq.), the National Mining and Minerals Policy Act of 1970 (30 U.S.C. 21(a)), the Strategic and Critical Materials Stock Piling Act (50 U.S.C. 98 et seq.), and the Defense Production Act (50 U.S.C. 2061 et seq.).

Daniel Hayba,
Acting Director, National Minerals Information Center, U.S. Geological Survey.

[FR Doc. 2024-26160 Filed 11-8-24; 8:45 am]

BILLING CODE 4338-11-P